DEPARTMENT OF LABOR

Employment and Training Administration

[TA-W-70,110]

Columbia Forest Products, Inc., Presque Isle Division, Presque Isle, ME; Notice of Affirmative Determination Regarding Application for Reconsideration

By application dated February 16, 2010, workers requested administrative reconsideration of the negative determination regarding workers' eligibility to apply for Trade Adjustment Assistance (TAA) applicable to workers and former workers of the subject firm. The determination was issued on January 25, 2010, and the Notice of Determination was published in the Federal Register on March 5, 2010 (75 FR 10323). The workers produce hardwood veneer.

The negative determination was based on the findings that, during the relevant period, there was no increase in imports of articles like or directly competitive with the hardwood veneer produced by the subject firm, and no shift to/acquisition from a foreign country by the subject firm of articles like or directly competitive with hardwood veneer. The investigation also revealed that the subject firm did not supply a component part to a firm that employed a worker group eligible to apply for TAA and directly incorporated the component part into the finished article that was the basis for the TAA certification.

The request for reconsideration asserts that the Department has misinterpreted the statute to the detriment of the petitioning workers. Specifically, the workers allege “the Trade Act does not just look at whether the subject firm increased imports, but that imports increased in general.” In support of the request for reconsideration, the workers provided various articles regarding increased imports of like or directly competitive articles from China, Canada, and other countries.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26895 Filed 10-22-10; 8:45 am]

BILLING CODE 4510-FN-P